ENVIRONMENTAL PROTECTION AGENCY

40 CFR Parts 52 and 81

[EPA-R10-OAR-2022-0125; FRL-9489-02-R10]

Air Plan Approval; OR; Oakridge PM10 Redesignation to Attainment and Maintenance Plan

AGENCY: Environmental Protection Agency (EPA).

ACTION: Final rule.

SUMMARY: The Environmental Protection Agency (EPA) is redesignating the Oakridge, Oregon nonattainment area to attainment for the 1987 National Ambient Air Quality Standard for particulate matter of 10 microns or less (PM10 NAAQS). The EPA is also approving a maintenance plan for the area that demonstrates continued compliance with the PM10 NAAQS through the year 2035, which Oregon submitted, along with the redesignation request, for inclusion into the Oregon State Implementation Plan (SIP). Additionally, the EPA finds adequate and is approving the PM10 motor vehicle emission budgets for the area. The EPA is taking these actions pursuant to the Clean Air Act (CAA or the Act).

DATES: This action is effective on September 21, 2022.

ADDRESSES: The EPA has established a docket for this action under Docket ID No. EPA-R10-OAR-2022-0125. All documents in the docket are listed on the https://www.regulations.gov website. Although listed in the index, some information is not publicly available, e.g., Confidential Business Information or other information the disclosure of which is restricted by statute. Certain other material, such as copyrighted material, is not placed on the internet and will be publicly available only in hard copy form. Publicly available docket materials are available at https://www.regulations.gov, or please contact the person listed in the FOR FURTHER INFORMATION CONTACT section for additional availability information.

FOR FURTHER INFORMATION CONTACT: Christi Duboiski (15-H13), EPA Region 10, 1200 Sixth Avenue (Suite 155), Seattle, WA 98101, at (360) 753-9081, or duboiski.christi@epa.gov.

SUPPLEMENTARY INFORMATION: Throughout this document whenever “we,” or “our” is used, it refers to the EPA.

I. Background

On January 13, 2022, Oregon submitted a request for the EPA to redesignate the Oakridge nonattainment area to attainment for the 1987 24-hour PM10 NAAQS under section 107(d)(3)(E) of the CAA. On May 9, 2022, the EPA proposed to determine that the Oakridge, Oregon nonattainment area met the statutory requirements for redesignation under the CAA and proposed to approve, as a revision to the Oregon SIP, the State's plan for maintaining the 1987 24-hour PM10 NAAQS through the year 2035 (87 FR 27540). The EPA's proposed approval was based upon the EPA's determination that the area continues to attain the 1987 24-hour PM10 NAAQS ¹ and that all other redesignation criteria have been met for the area. In addition, in accordance with 40 CFR 93.118(f)(2), the EPA proposed to find adequate and approve the Oakridge 2015, 2025, 2030 and 2035 PM10 motor vehicle emission budgets.

¹ The EPA, 2020 Air Quality System (AQS) Design Value Report, AMP480, accessed July 26, 2022. The Design Value Report excludes measurements with regionally concurred exceptional event flags.

An explanation of the CAA requirements, a detailed analysis of the submittal, and the EPA's reasons for approval were provided in the notice of proposed rulemaking and will not be restated here. The public comment period closed on June 8, 2022. We received no public comments, therefore, we are finalizing the action as proposed.

II. Final Action

The EPA is redesignating the Oakridge, Oregon PM10 area to attainment and we are approving the associated maintenance plan as a revision to the Oregon SIP. The designation status of the Oakridge, Oregon PM10 area under 40 CFR part 81 will be revised to attainment upon the effective date of this final action. We are also finding adequate and approving the PM10 motor vehicle emission budgets included in the Oakridge maintenance plan.

Finally, the EPA is removing from the SIP and from incorporation by reference the outdated City of Oakridge Ordinance 815, city approved August 15, 1996, which restricts use of solid fuel space heating devices during air pollution episodes, because it has been superseded by the City of Oakridge Ordinance No. 920, approved by the EPA on February 08, 2018 (83 FR 5537).

We note, the EPA is taking a separate and final action on the Oakridge PM2.5 redesignation request and maintenance plan, the Lane County Codes, the City of Oakridge Ordinance No. 920 and the LRAPA Title 29 rule revisions, which were also included in the January 13, 2022 submission.

III. Incorporation by Reference

In this document, the EPA is finalizing regulatory text that includes incorporation by reference. As described in section II of this preamble, the EPA is removing City of Oakridge Ordinance 815, which is outdated. This material has been approved by the EPA for exclusion from the SIP as of the effective date of EPA's approval of the final rule. The EPA has made, and will continue to make, incorporation by reference materials generally available through https://www.regulations.gov and at the EPA Region 10 Office (please contact the person identified in the FOR FURTHER INFORMATION CONTACT section of this preamble for more information).

IV. Statutory and Executive Order Reviews

Under the Clean Air Act, the Administrator is required to approve a SIP submission that complies with the provisions of the Clean Air Act and applicable Federal regulations. 42 U.S.C. 7410(k); 40 CFR 52.02(a). Thus, in reviewing SIP submissions, the EPA's role is to approve state choices, provided that they meet the criteria of the Clean Air Act. Accordingly, this action merely approves State law as meeting Federal requirements and does not impose additional requirements beyond those imposed by State law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by October 21, 2022. Filing a petition for reconsideration by the Administrator of this final rule does not affect the finality of this action for the purposes of judicial review nor does it extend the time within which a petition for judicial review may be filed and shall not postpone the effectiveness of such rule or action. This action may not be challenged later in proceedings to enforce its requirements. (See section 307(b)(2).)

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 81

Environmental protection, Air pollution control, National parks, Wilderness areas.

Dated: August 12, 2022.
Casey Sixkiller,
Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart MM—Oregon

2. In § 52.1970:

a. In paragraph (c), amend Table 3 by removing the entry “City of Oakridge Ordinance 815”; and

b. In paragraph (e), amend Table 5 under the heading “Attainment and Maintenance Planning—Particulate Matter (PM10)” by adding an entry for “Oakridge PM10 Maintenance Plan” immediately following the entry for “PM10 2nd 10-year Limited Maintenance Plan”.

The addition reads as follows:

§ 52.1970 Identification of plan.

* * * * *

(e) * * *

Table 5—State of Oregon Air Quality Control Program Approved But Not Incorporated By Reference
Name of SIP provision | Applicable geographic or nonattainment area | State submittal date | EPA approval date | Explanations
* * * * * * *
Attainment and Maintenance Planning—Particulate Matter (PM10)
* * * * * * *
Oakridge PM10 Maintenance Plan | Oakridge | 1/13/2022 | 8/22/2022, [INSERT Federal Register CITATION] |
* * * * * * *

PART 81—DESIGNATION OF AREAS FOR AIR QUALITY PLANNING PURPOSES

3. The authority citation for part 81 continues to read as follows:

Authority: 42 U.S.C. 7401 et seq.

4. In § 81.338 amend the table entitled “Oregon—PM-10” by revising the entry for “Oakridge (the Urban Growth Boundary area)” to read as follows:

§ 81.338 Oregon.

* * * * *

Oregon—PM-10
Designated area | Designation: Date | Designation: Type | Classification: Date | Classification: Type
* * * * * * *
Oakridge (the Urban Growth Boundary area) | 8/22/2022 | Attainment
* * * * * * *

* * * * *

[FR Doc. 2022-17866 Filed 8-19-22; 8:45 am]

BILLING CODE 6560-50-P